Memorandum of March 18, 2016

Delegation of Authority Pursuant to Sections 102(a), 102(c), 204, and 302 of the Hizballah International Financing Prevention Act of 2015

Memorandum for the Secretary of the Treasury

By the authority vested in me as President by the Constitution and the laws of the United States of America, including section 301 of title 3, United States Code, I hereby delegate to you, in consultation with the Secretary of State, the functions and authorities vested in the President by sections 102(a), 102(c), 204, and 302 of the Hizballah International Financing Prevention Act of 2015 (Public Law 114-102) (the “Act”).

Any reference in this memorandum to the Act shall be deemed to be a reference to any future Act that is the same or substantially the same as such provisions.

You are authorized and directed to publish this memorandum in the Federal Register.

THE WHITE HOUSE,

Washington, March 18, 2016

[FR Doc. 2016-06718

Filed 3-22-16; 8:45 am]

Billing code 4811-33-P